NATIONAL FOUNDATION ON THE ARTS AND THE HUMANITIES

National Endowment for the Arts; Submission for OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of this ICR, with applicable supporting documentation, may be obtained by contacting Sunil Iyengar via telephone at 202-682-5424 (this is not a toll-free number) or e-mail at research@arts.endow.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submissions of responses.

Agency: National Endowment for the Arts.

Title: The Big Read Audio Guide Distribution Project.

OMB Number: New.

Frequency: One time.

Affected Public: Public libraries.

Estimated Number of Respondents: 13,965.

Estimated Time Per Respondent: 3.5 minutes.

Total Burden Hours: 825.

Total Annualized Capital/Startup Costs: 0.

Total Annual Costs (Operating/Maintaining Systems or Purchasing Services): 0.

Description: The National Endowment for the Arts plans to conduct an evaluation to assess the Big Read Audio Guide Distribution Project. The Big Read is an initiative of the National Endowment for the Arts (NEA), in partnership with the Institute of Museum and Library Services (IMLS) and in cooperation with Arts Midwest, designed to revitalize the role of literature in American popular culture by providing citizens with the opportunity to read and discuss a single book of fiction within their communities. This evaluation is aimed at assessing the distribution of Big Read Audio Guides to 16,500 public libraries across the U.S. The activities include collecting uniform data from all libraries receiving the audio guides and still keep data collection burdens to a minimum.

ADDRESSES: Sunil Iyengar, National Endowment for the Arts, 1100 Pennsylvania Avenue, NW., Room 616, Washington, DC 20506-0001, telephone (202) 682-5424 (this is not a toll-free number), fax 202/682-5677.

Murray Welsh,
Director, Administrative Services, National Endowment for the Arts.

[FR Doc. E7-21165 Filed 10-26-07; 8:45 am]

BILLING CODE 7537-01-P